DEPARTMENT OF TRANSPORTATION

National Highway Traffic Safety Administration

49 CFR Part 531

[Docket No. NHTSA-99-6676; Notice 2]

Passenger Automobile Average Fuel Economy Standards; Final Decision to Grant Exemption

AGENCY: National Highway Traffic Safety Administration (NHTSA), DOT.

ACTION: Final rule.

SUMMARY: This final decision responds to a petition filed by DeTomaso Automobiles, Ltd. (DeTomaso) requesting that it be exempted from the generally applicable average fuel economy standard of 27.5 miles per gallon (mpg) for model years (MYs) 2000 and 2001 and that lower alternative standards be established. In this document, NHTSA establishes an alternative standard for DeTomaso (now operating as the Qvale Automotive Group (QAG)) of 22.0 mpg for MYs 2000 and 2001.

DATES: Effective date: November 13, 2000. This exemption and the alternative standards apply to QAG for MYs 2000 and 2001.

Petitions for reconsideration: Petitions for reconsideration must be received no later than November 13, 2000.

ADDRESSES: Petitions for reconsideration of this rule should refer to the docket number and notice number cited in the heading of this notice and must be submitted to: Administrator, National Highway Traffic Safety Administration, 400 Seventh Street, SW., Washington DC 20590.

FOR FURTHER INFORMATION CONTACT: Mr. Sanjay Patel, Office of Planning and Consumer Programs, NHTSA, 400 Seventh Street, SW., Washington, DC 20590. Mr. Patel's telephone number is: (202) 366-0307.

For legal issues, you may contact Otto Matheke, Office of the Chief Counsel, NHTSA, Room 5219, 4000 Seventh Street, SW., Washington, DC 20590. Mr. Matheke's telephone number is: 202-366-5263.

SUPPLEMENTARY INFORMATION:

Statutory Background

Pursuant to 49 U.S.C. section 32902(d), NHTSA may exempt a low volume manufacturer of passenger automobiles from the generally applicable average fuel economy standards if NHTSA concludes that those standards are more stringent than the maximum feasible average fuel economy for that manufacturer and if NHTSA establishes an alternative standard for that manufacturer at its maximum feasible level. Under the statute, a low volume manufacturer is one that manufactured (worldwide) fewer than 10,000 passenger automobiles in the second model year before the model year for which the exemption is sought (the affected model year) and that will manufacture fewer than 10,000 passenger automobiles in the affected model year. In determining the maximum feasible average fuel economy, the agency is required under 49 U.S.C. 32902(f) to consider:

(1) Technological feasibility

(2) Economic practicability

(3) The effect of other Federal motor vehicle standards on fuel economy, and

(4) The need of the United States to conserve energy.

The statute permits NHTSA to establish alternative average fuel economy standards applicable to exempted low volume manufacturers in one of three ways: (1) A separate standard for each exempted manufacturer; (2) a separate average fuel economy standard applicable to each class of exempted automobiles (classes would be based on design, size, price, or other factors); or (3) a single standard for all exempted manufacturers.

Proposed Decision and Public Comment

This final decision was preceded by a proposal announcing the agency's tentative conclusion that DeTomaso should be exempted from the generally applicable MYs 2000 and 2001 passenger automobile average fuel economy standard of 27.5 mpg, and that alternative standards of 22.0 mpg for MY 2000 and MY 2001 be established for DeTomaso. (63 FR 73476; December 30, 1999). The agency received one comment from a Mr. Lance Tunick, a consultant acting on behalf of DeTomaso, supporting the establishment of an alternative standard for DeTomaso for MYs 2000 and 2001 and informing the agency that DeTomaso, which had submitted its petition as DeTomaso Automobiles Ltd. had changed its name to the Qvale Automotive Group Srl (QAG). Accordingly, Mr. Tunick, acting on behalf of DeTomaso/QAG requested that the agency, in issuing its final decision, grant the exemption to QAG rather than DeTomaso. Accordingly, all references to DeTomaso in the proposed decision have been changed in this final decision to recognize that the final decision applies to QAG.

NHTSA Final Determination

The agency is adopting the tentative conclusions set forth in the proposed decision as its final conclusions, for the reasons set forth in the proposed decision. Based on these conclusions, the maximum feasible average fuel economy level for QAG is 22.0 mpg for MY 2000 and 22.0 mpg for MY 2001. NHTSA has determined that other Federal motor vehicle standards will not affect achievable fuel economy beyond the extent considered in the proposed decision and that the national effort to conserve energy will not be affected by granting this exemption. NHTSA hereby exempts QAG from the generally applicable passenger automobile average fuel economy standard for the 2000 and 2001 model years and establishes an alternative standard of 22.0 for MYs 2000 and 2001 for QAG.

Regulatory Impact Analyses

NHTSA has analyzed this decision and determined that neither Executive Order 12866 nor the Department of Transportation's regulatory policies and procedures apply. Under Executive Order 12866, the decision would not establish a “rule,” which is defined in the Executive Order as “an agency statement of general applicability and future effect.” The decision is not generally applicable, since it would apply only to the Qvale Automotive Group Srl., as discussed in this notice. Under DOT regulatory policies and procedures, the decision is not a “significant regulation.” If the Executive Order and the Departmental policies and procedures were applicable, the agency would have determined that this decision is neither major nor significant. The principal impact of this decision is that the exempted company will not be required to pay civil penalties if its maximum feasible average fuel economy were achieved, and purchasers of those vehicles would not have to bear the burden of those civil penalties in the form of higher prices. Since this decision sets an alternative standard at the level determined to be the maximum feasible levels for QAG for MYs 2000 and 2001, no fuel would be saved by establishing a higher alternative standard. NHTSA finds in the Section on “The Need of the United States to Conserve Energy” that because of the small size of the QAG fleet, that incremental usage of gasoline by QAG's customers would not affect the United States's need to conserve gasoline. There are not any impacts for the public at large.

The agency has also considered the environmental implications of this decision in accordance with the Environmental Policy Act and determined that it does not significantly affect the human environment. Regardless of the fuel economy of the exempted vehicles, they must pass the emissions standards which measure the amount of emissions per mile traveled. Thus, the quality of the air is not affected by the alternative standards. Further, since the exempted passenger automobiles cannot achieve better fuel economy than is proposed herein, the decision does not affect the amount of fuel used.

Since the Regulatory Flexibility Act may apply to a decision exempting a manufacturer from a generally applicable standard, I certify that this decision will not have a significant economic impact on a substantial number of small entities. This decision does not impose any burdens on QAG. It relieves the company from having to pay civil penalties for noncompliance with the generally applicable standard for MYs 2000 and 2001. Since the price of 2000 and 2001 QAG automobiles will not be affected by this decision, the purchasers will not be affected.

List of Subjects in 49 CFR Part 531

Energy conservation, Gasoline, Imports, Motor vehicles.

In consideration of the foregoing, 49 CFR part 531 is amended to read as follows:

Part 531—[AMENDED]

1. The authority citation for part 531 is revised to read as follows:

Authority: 49 U.S.C. 32902, delegation of authority at 49 CFR 1.50.

2. In § 531.5, the introductory text of paragraph (b) is republished for the convenience of the reader and paragraph (b)(14) is added to read as follows:

§ 531.5 Fuel economy standards.

* * * * *

(b) The following manufacturers shall comply with the standards indicated below for the specified model years:

* * * * *

(14) Qvale Automotive Group Srl
Model year | Average fuel economy standard (miles per gallon)
2000 | 22.0
2001 | 22.0

Issued on: September 12, 2000.
Stephen R. Kratzke,
Associate Administrator for Safety Performance Standards.

[FR Doc. 00-23906 Filed 9-28-00; 8:45 am]

BILLING CODE 4910-59-P